DEPARTMENT OF TRANSPORTATION

Federal Transit Administration

Transfer of Federally Assisted Land or Facility

AGENCY: Federal Transit Administration, DOT.

ACTION: Notice of intent to transfer Federally assisted land or facility.

SUMMARY: Section 5334(h) of the Federal Transit Laws, as codified, 49 U.S.C. 5301, et seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal Agencies that the City of Terre Haute by and through its Board of Public Works intends to transfer a portion of a facility to Indiana State University for use as a parking garage for students, faculty and general public. The portion of the facility being transferred is located on land owned by Indiana State University Board of Trustees and leased to the City of Terre Haute under a forty (40) year ground lease dated January 1, 2006. The facility is located at 750 Cherry Street, Terre Haute, Indiana and is bounded on the west by 7th Street, on the east by 8th Street, on the north by Larry Bird Avenue and on the south by Cherry Street. It is taxed as one parcel # 84-06-22-307-002.000-002 but is more specifically comprised of Lots 98, 99, 100, and part of Lots 118, 119, 120 and 120 in Chauncey Rose's Addition to the Town (now city) of Terre Haute. The facility is located on the campus of Indiana State University and is adjacent to the Hulman Civic Center, a commercial office building housing State of Indiana Offices, Hilton Garden Inn and is one block north of the downtown Terre Haute area.

The facility to be transferred is comprised of approximately Two-hundred Twenty-eight Thousand (228,000) square feet of parking structure including Six Hundred Twenty-six (626) parking spaces. Construction material includes concrete with brick façade.

The transfer does not include Eighteen Thousand Three Hundred (18,300) square feet on the east end of the structure occupied by the City of Terre Haute Transit Department.

DATES: Effective Date: Any Federal agency interested in acquiring the facility must notify the FTA Region V Office of its interest by April 17, 2011.

ADDRESSES: Interested parties should notify the Regional Office by writing to Marisol R. Simon, Regional Administrator, Federal Transit Administration, 200 West Adams, Suite 320, Chicago, IL 60606.

FOR FURTHER INFORMATION CONTACT: Cecelia M. Comito, Regional Counsel, at 312-353-4118.

SUPPLEMENTARY INFORMATION:

Background

49 U.S.C. 5334(h) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government. 49 U.S.C. 5334(h)(l).

Determinations

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(h)(l)(D) of the Federal Transit Laws. Accordingly, FTA hereby provides notice of the availability of the land or facility further described below. Any Federal agency interested in acquiring the affected facility should promptly notify the FTA.

If no Federal agency is interested in acquiring the existing facility, FTA will make certain that the other requirements specified in 49 U.S.C. 5334(h)(1)(A) through (C) are met before permitting the asset to be transferred.

This facility was constructed as a multi modal transportation facility and commenced operation in 2008. It contains approximately Two Hundred Forty-six Thousand, Three Hundred (246,300) square feet of which Two Hundred Twenty-eight Thousand (228,000) is utilized for vehicular parking and Eighteen Thousand, Three Hundred (18,300) square feet are utilized by the City of Terre Haute Transit Department for operation of a bus transfer and office location.

The land upon which the facility is located is leased by the City of Terre Haute by and through its Board of Public Works from Indiana State University under a forty (40) year ground lease. The City of Terre Haute will retain the transit portion of the facility until the lease expires.

Issued on: March 8, 2011.
Marisol Simón,
Regional Administrator.

[FR Doc. 2011-6331 Filed 3-17-11; 8:45 am]

BILLING CODE P